ENVIRONMENTAL PROTECTION AGENCY

[FRL-7616-7]

Notice of Proposed Administrative Settlement Pursuant to the Comprehensive Environmental Response, Compensation and Liability Act of 1980, as Amended by the Superfund Amendments and Reauthorization Act, Uravan Uranium Superfund Site, CERCLA Docket No. CERCLA-08-2004-0004

AGENCY: Environmental Protection Agency (EPA).

ACTION: Notice; request for public comment.

SUMMARY: Notification is hereby given that the United States Environmental Protection Agency proposes to enter into a Settlement Agreement (Agreement) relating to the Uravan Uranium Superfund Site located in Uravan, Montrose County, Colorado. The proposed Agreement is subject to final approval after the comment period. The Agreement resolves Superfund liability for certain costs under section 107 of the Comprehensive Environmental Response, Compensation and Liability Act of 1980, as amended by the Superfund Amendments and Reauthorization Act of 1986 (CERCLA), against UMETCO Minerals Corporation. The Agreement requires UMETCO to pay EPA $125,000 in full satisfaction of EPA's claim for costs incurred and to be incurred in connection with the deletion of the Uravan Superfund Site from the National Priorities List. For thirty (30) days following the date of publication of this notice, EPA will accept written comments relating to the proposed Agreement. The Agency's response to any comments received will be available for public inspection at the Superfund Records Center at the U.S. Environmental Protection Agency, Region VIII, 999 18th Street, Denver, Colorado, 80202.

Availability: The proposed Agreement is available for public inspection at the U.S. Environmental Protection Agency, Region VIII, 999 18th Street, Denver, Colorado, 80202. A copy of the proposed Agreement may be obtained from Kelcey Land, Enforcement Specialist, U.S. Environmental Protection Agency, Region VIII, 999 18th Street, Suite 300, ENF-T Denver, Colorado, 80202. Comments should reference the “Uravan Uranium Superfund Site” and should be forwarded to Kelcey Land, Enforcement Specialist, at the above address.

FOR FURTHER INFORMATION CONTACT: Andrea Madigan, Enforcement Attorney, U.S. Environmental Protection Agency, Region VIII, 999 18th Street, Suite 300, ENF-L Denver, Colorado, 80202.

Dated: January 15, 2004.
Carol Rushin,
Assistant Regional Administrator, Enforcement, Compliance and Environmental Justice, Environmental Protection Agency, Region VIII.

[FR Doc. 04-2062 Filed 1-30-04; 8:45 am]

BILLING CODE 6560-50-P